DEPARTMENT OF COMMERCE

National Oceanic and Atmospheric Administration

RIN 0648-XE663

Marine Mammals; File No. 18769

AGENCY: National Marine Fisheries Service (NMFS), National Oceanic and Atmospheric Administration (NOAA), Commerce.

ACTION: Notice; receipt of application.

SUMMARY: Notice is hereby given that Sea World, LLC., 9205 South Park Center Loop, Suite 400, Orlando, FL 32819 [Christopher Dold, D.V.M., Responsible Party], has applied in due form for a permit to continue enhancement activities on three currently held non-releasable Guadalupe fur seals (Arctocephalus townsendi) with the option of holding up to six non-releasable furs seals at any given time.

DATES: Written, telefaxed, or email comments must be received on or before July 7, 2016.

ADDRESSES: The application and related documents are available for review by selecting “Records Open for Public Comment” from the “Features” box on the Applications and Permits for Protected Species (APPS) home page, https://apps.nmfs.noaa.gov, and then selecting File No. 18769 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 18769 in the subject line of the email comment.

Those individuals requesting a public hearing should submit a written request to the Chief, Permits and Conservation Division at the address listed above. The request should set forth the specific reasons why a hearing on this application would be appropriate.

FOR FURTHER INFORMATION CONTACT: Jennifer Skidmore and Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests authorization for the continued maintenance of three non-releasable Guadalupe fur seals at Sea World of California (and other Sea World facilities if relocation is necessary) for enhancement purposes. These animals were taken into captivity by the Marine Mammal Health and Stranding Network and were deemed non-releasable. Thus, release of these animals would not be in the best interest of their individual welfare and that of the wild population. These animals are currently held by Sea World of California under Permit No. 14186-01. Furthermore, the applicant has agreed to provide additional space for future non-releasable Guadalupe fur seals, if necessary (up to 6 total animals at any given time). These animals would be provided with daily husbandry care and treatment for current medical conditions, routine veterinary care, and would be made available for opportunistic research. The applicant has requested a five-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 1, 2016.
Julia Harrison,
Chief, Permits and Conservation Division, Office of Protected Resources, National Marine Fisheries Service.

[FR Doc. 2016-13351 Filed 6-6-16; 8:45 am]

BILLING CODE 3510-22-P